DEPARTMENT OF LABOR

Employment and Training Administration

[TA-W-54,361]

Kimberly Clark Corporation; Kimtech Plant; Neenah, WI; Notice of Negative Determination on Reconsideration

On May 25, 2004, the Department issued an Affirmative Determination Regarding Application for Reconsideration for the workers and former workers of the subject firm. The notice was published in the Federal Register on June 8, 2004 (69 FR 32047).

The petition for the workers of Kimberly Clark Corporation, Kimtech Plant, Neenah, Wisconsin engaged in the production of paper industry machinery and equipment was denied because the “contributed importantly” group eligibility requirement of section 222 of the Trade Act of 1974, as amended, was not met. The subject firm did not increase its reliance on imports of paper industry machinery and equipment during the relevant period, nor did it shift production to a foreign source.

In the request for reconsideration, the petitioner alleges that the layoffs at the subject firm are attributable to a shift in production to Mexico.

A company official was contacted regarding the above allegations. The company official stated that layoffs at the Kimtech Plant were attributed to a reduction in capital expenditures by Kimberly-Clark. The official also stated that no production has been shifted from the subject firm to Mexico and currently, there are no such plans.

Should the shift to Mexico occur, the petitioners are encouraged to file a new petition on behalf of workers at the Kimberly Clark Corporation, Kimtech Plant, Neenah, Wisconsin, thereby creating a relevant period of investigation that would include changing conditions.

Conclusion

After review of the application and investigative findings, I conclude that there has been no error or misinterpretation of the law or of the facts which would justify reconsideration of the Department of Labor's prior decision. Accordingly, the application is denied.

Signed in Washington, DC, this 18th day of June, 2004.
Elliott S. Kushner,
Certifying Officer, Division of Trade Adjustment Assistance Assistance.

[FR Doc. 04-14788 Filed 6-29-04; 8:45 am]

BILLING CODE 4510-30-P